DEPARTMENT OF HEALTH AND HUMAN SERVICES

Office of the Secretary

[Document Identifier: HHS-OS-17264-30D]

Agency Information Collection Activities; Submission to OMB for Review and Approval; Public Comment Request

ACTION: 30-day Notice.

SUMMARY: In compliance with section 3506(c)(2)(A) of the Paperwork Reduction Act of 1995, the Office of the Secretary (OS), Department of Health and Human Services, will submit an Information Collection Request (ICR), described below, to the Office of Management and Budget (OMB) for review and approval. The ICR is for renewal of the approved information collection assigned OMB control number 0990-0269, scheduled to expire on September 30, 2012. Comments submitted during the first public review of this ICR will be provided to OMB. OMB will accept further comments from the public on this ICR during the review and approval period.

Deadline: Comments on the ICR must be received within 30 days of the issuance of this notice.

ADDRESSES: Submit your comments, including the OMB control number <OCN> and document identifier HHS-OS-17264-30D, to OIRA_submission@omb.eop.gov or via facsimile to (202) 395-5806. Copies of the supporting statement and any related forms may be requested via email to Information.CollectionClearance@hhs.gov or by calling (202) 690-6162.

Information Collection Request Title: Complaint Forms for Discrimination; Health Information Privacy Complaints.

Abstract: The Office for Civil Rights is seeking an extension on an approval for a 3-year clearance on a previous collection. Individuals may file written complaints with the Office for Civil Rights when they believe they have been discriminated against by programs or entities that receive Federal financial assistance from the Health and Human Service or if they believe that their right to the privacy of protected health information has been violated. Annual Number of Respondents frequency of submission is record keeping and reporting on occasion.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

Total Estimated Annualized Burden—Hours
Forms | Type of respondent | Number of respondents | Number of responses per respondent | Average burden hours per response | Total burden hours
Civil Rights Complaint Form | Individuals or households, Not-for-profit institutions | 3,493 | 1 | 45/60 | 2,620
Health Information Privacy Complaint Form | Individuals or households, Not-for-profit institutions | 10,286 | 1 | 45/60 | 7,715
Total |  |  |  |  | 10,335

Keith A. Tucker,
Information Collection Clearance Officer, Department of Health and Human Services.

[FR Doc. 2012-23776 Filed 9-26-12; 8:45 am]

BILLING CODE 4153-01-P